DEPARTMENT OF COMMERCE

National Oceanic and Atmospheric Administration

15 CFR Part 902

50 CFR Part 648

[Docket No. 000407096-0196-02; I.D. 040300C]

RIN 0648-AN51

Fisheries of the Northeastern United States Northeast Multispecies; Framework Adjustment 33 to the Northeast Multispecies Fishery Management Plan; Reporting Requirement

AGENCY: National Marine Fisheries Service (NMFS), National Oceanic and Atmospheric Administration (NOAA), Commerce.

ACTION: Final rule; effectiveness of collection-of-information requirement.

SUMMARY: NMFS announces approval by the Office of Management and Budget (OMB) of a collection-of-information requirement contained in Framework Adjustment 33 to the Northeast Multispecies Fishery Management Plan (FMP) and issues a final rule to make effective the restrictions and related prohibitions contained in Framework 33 for charter/party vessel operators fishing in the Gulf of Maine closed areas and the Nantucket Lightship Closed Area. Charter/party vessels are required to obtain a certificate in exchange for access to the Gulf of Maine closed areas. As a condition of the certificate, the vessel owner must agree to abide by charter/party regulations and to not utilize days at sea during the 3 months covered by the certificate. This final rule also codifies the OMB control number for the approved information collection in 50 CFR part 902. The intent of this final rule is to inform the public of the effective date of the charter/party vessel requirements and publish the OMB control number for the related collection-of-information requirement.

DATES: Sections 648.14(b)(2), 648.81(g)(2)(iii), and 648.89(e) published at 65 FR 21658 (April 24, 2000) and 15 CFR 902.1 are effective on August 28, 2000.

ADDRESSES: Any comments regarding burden-hour estimates for collection-of-information requirements contained in this final rule should be sent to Patricia Kurkul, Regional Director, Northeast Regional Office, National Marine Fisheries Service, One Blackburn Drive, Gloucester, MA 01930, and to the Office of Information and Regulatory Affairs, Office of Management and Budget, Washington, DC 20503 (ATTN: NOAA Desk Officer).

FOR FURTHER INFORMATION CONTACT: Rick Pearson, Fishery Policy Analyst, 978-281-0279.

SUPPLEMENTARY INFORMATION: A final rule that implemented the measures contained in Framework 33 to the Northeast Multispecies FMP was published in the Federal Register on April 24, 2000 (65 FR 21658), and most of the measures were made effective on May 1, 2000. However, because OMB approval of the reporting requirement contained in Framework 33 had not yet been received as of the effective date of that rule, effectiveness of the Charter/party vessel requirements and related prohibitions contained in the framework was delayed. OMB approval for those measures was received on June 20, 2000. Consequently, this rule makes §§ 648.14(b)(2), 648.81(g)(2)(iii), and 648.89(e), which were codified in the April 24, 2000, final rule, effective.

NOAA codifies its OMB control numbers for information collection at 15 CFR part 902. Part 902 collects and displays the control numbers assigned to information collection requirements of NOAA by OMB pursuant to the Paperwork Reduction Act (PRA). This final rule codifies OMB control number 0648-0412 for §§ 648.81 and 648.89.

Under NOAA Administrative Order 205-11, dated December 17, 1990, the Under Secretary for Oceans and Atmosphere, NOAA, has delegated to the Assistant Administrator for Fisheries, NOAA, the authority to sign material for publication in the Federal Register.

Classification

This rule has been determined to be not significant for the purposes of Executive Order 12866.

Notwithstanding any other provision of the law, no person is required to respond to, nor shall any person be subject to a penalty for failure to comply with, a collection of information subject to the requirements of the PRA, unless that collection of information displays a currently valid OMB control number.

This rule contains a collection-of-information requirement subject to the PRA that has been approved by OMB under 0648-0412. The estimated time per response for a telephone call to request a Multispecies Charter/party Gulf of Maine Closed Area Exemption Certificate is 2 minutes.

The estimated response time includes the time needed for reviewing instructions, searching existing data sources, gathering and maintaining the data needed, and completing and reviewing the collection of information. Send comments regarding these reporting burden estimates or any other aspect of the collection-of-information, including suggestions for reducing the burden, to NMFS and OMB (see ADDRESSES).

List of Subjects in 15 CFR Part 902

Reporting and recordkeeping requirements.

Dated: July 9, 2000.
Penelope D. Dalton,
Assistant Administrator for Fisheries, National Marine Fisheries Service.

For the reasons set out in the preamble, 15 CFR part 902, chapter IX, is amended as follows:

PART 902—NOAA INFORMATION COLLECTION REQUIREMENTS UNDER THE PAPERWORK REDUCTION ACT; OMB CONTROL NUMBERS

1. The authority citation for part 902 continues to read as follows:

Authority: 44 U.S.C. 3501 et seq.

2. In § 902.1, the table in paragraph (b) under 50 CFR is amended by adding in numerical order a new OMB control number, “-0412”, to § 648.81 and by adding in numerical order § 648.89 and its corresponding OMB control number “-0412” to read as follows:

§ 902.1 OMB control numbers assigned pursuant to the Paperwork Reduction Act.

* * * * *

(b) * * *

CFR part or section where the information collection requirement is located | Current OMB control number (all numbers begin with 0648-)
* * * * *
50 CFR
* * * * *
648.81 | *** and -0412
* * * * *
648.89 | -0412
* * * * *

[FR Doc. 00-17894 Filed 7-13-00; 8:45 am]

BILLING CODE 3510-22-F